NUCLEAR REGULATORY COMMISSION

[Docket Nos. 50-269, 50-270, and 50-287]

Duke Energy Corporation; Oconee Nuclear Station, Units 1, 2, and 3, Exemption

1.0 Background

Duke Energy Corporation (the licensee) is the holder of Facility Operating License Nos. DPR-38, DPR-47, and DPR-55, which authorize operation of the Oconee Nuclear Station, Units 1, 2, and 3. The licenses provide, among other things, that the facility is subject to all rules, regulations, and orders of the U.S. Nuclear Regulatory Commission (NRC/ the Commission) now or hereafter in effect.

The facility consists of three pressurized water reactors located in Seneca County in South Carolina.

2.0 Request/Action

Title 10 of the Code of Federal Regulations (10 CFR) § 55.59(a)(1) requires that each licensed operator successfully complete a requalification program developed by the licensee that has been approved by the Commission. This program is to be conducted for a continuous period not to exceed 24 months in duration and upon its conclusion must be promptly followed by a successive requalification program. In addition, pursuant to 10 CFR 55.59(a)(2), each licensed operator must also pass a comprehensive requalification written examination and an annual operating test.

By letter dated March 6, 2001, the licensee requested an exemption under 10 CFR 55.11 from the requirements of 10 CFR 55.59(a)(1) and (a)(2). The exemption requested will extend the current Oconee Nuclear Station requalification program from June 4, 2001, to July 13, 2001. The requested exemption would constitute a one-time extension of the requalification program duration.

3.0 Discussion

Pursuant to 10 CFR 55.11, the Commission may, upon application by an interested person, or upon its own initiative, grant such exemptions from the requirements of the regulations in this part as it determines are authorized by law and will not endanger life or property and are otherwise in the public interest.

The Commission has determined that, pursuant to 10 CFR 55.11, granting an exemption to the licensee from the requirements in 10 CFR 55.59(a)(1) and (a)(2) is authorized by law, will not endanger life or property, and is in the public interest. To require the licensee's operators and staff to support the comprehensive examination and operating tests schedule during the 24-month requalification cycle could have a detrimental effect on the public interest because it would remove qualified operators from refueling operations and place them into the training program, which could interfere with the current Oconee Unit 2 refueling outage schedule. Further, this one-time exemption will provide additional operator support during plant shutdown conditions, which would provide a safety enhancement during plant shutdown operations and post-maintenance testing. The affected licensed operators will continue to demonstrate and possess the required levels of knowledge, skills, and abilities needed to safely operate the plant throughout the transitional period via continuation of the current satisfactory licensed operator requalification program.

4.0 Conclusion

Accordingly, the Commission hereby grants the licensee an exemption on a one-time only basis from the requirements of 10 CFR 55.59(a)(1) and (a)(2) to allow the current Oconee Nuclear Station requalification program to be extended beyond the 24 months, but not to exceed 26 months and to expire on July 13, 2001. Upon completion of the examinations on July 13, 2001, the follow-on cycle will end on March 8, 2003. Future annual requalification cycles will run from March to March.

Pursuant to 10 CFR 51.32, the Commission has determined that the granting of this exemption will not have a significant effect on the quality of the human environment (66 FR 29347).

This exemption is effective upon issuance and expires on March 8, 2003.

Dated at Rockville, Maryland, this 30th day of May 2001.
For the Nuclear Regulatory Commission.
Bruce A. Boger,
Director, Division of Inspection Program Management, Office of Nuclear Reactor Regulation.

[FR Doc. 01-14094 Filed 6-4-01; 8:45 am]

BILLING CODE 7590-01-P